ENVIRONMENTAL PROTECTION AGENCY

[ER-FRL-8999-3]

Environmental Impacts Statements; Notice of Availability

Responsible Agency: Office of Federal Activities, General Information (202) 564-1399 or http://www.epa.gov/compliance/nepa/.

Weekly receipt of Environmental Impact Statements

Filed 09/19/2011 Through 09/23/2011

Pursuant to 40 CFR 1506.9.

Notice

Section 309(a) of the Clean Air Act requires that EPA make public its comments on EISs issued by other Federal agencies. EPA's comment letters on EIS are available at: http://www.epa.gov/compliance/nepa/eisdata.html.

EIS No. 20110325, Final EIS, FHWA, 00, I-69 Corridor—Section of Independent Utility (SIU) No. 14, Construction from Junction 1-20 near Haughton, LA to U.S. 82 near EL Dorado, AR, Bossier, Claiborne and Webster Parishes, LA and Columbia and Union Counties, AR, Review Period Ends: 11/10/2011, Contact: Christi Wilson 504-837-6326.

EIS No. 20110326, Final EIS, USA, MT, Limestone Hills Training Area (LHTA) Withdrawal Project, To Withdraw Federal Lands from within the LHTA from DOI, Bureau of Land Management for Transfer to Montana Army National Guard for Military Training Use, Broadwater County, MT, Review Period Ends: 10/31/2011, Contact: Sundi West 406-324-3088.

EIS No. 20110327, Draft EIS, BR, 00, Klamath Facilities Removal Project, Advance Restoration of the Salmonid Fisheries Klamath Basin, Siskiyou County, CA and Klamath County, OR, Comment Period Ends: 11/21/2011, Contact: Elizabeth Vasqueuz 916-978-5055.

EIS No. 20110328, Draft EIS, NPS, CA, Drakes Bay Oyster Company (DBOC) Special Use Permit (SUP) for the Period of 10 Years for its Shellfish Operation, which Consists of Commercial Production, Harvesting, Processing, and Sale of Shellfish at Point Reyes National Seashore, CA, Comment Period Ends: 11/21/2011, Contact: Cicely Muldoon 415-464-5101.

EIS No. 20110329, Draft EIS, FHWA, NC, U.S.-70 Havelock Bypass Project, Construction of a New Location, 10-mile, Four Land Divided, Controlled-Access Freeway for U.S.-70 around the Southwest Side of the City of Havelock and the Cherry Point U.S. Marine Corps Air Station (MCAS), Craven County, NC, Comment Period Ends: 11/14/2011, Contact: Mark Pierce 919-707-6035.

EIS No. 20110330, Draft EIS, USFS, 00, Kiowa, Rita Blanca, Black Kettle, and McClellan Creek National Grasslands Land and Resource Management Plan, Implementation, Mora, Harding, Union, and Colfax Counties, NM; Dallam, Hemphill, and Gray Counties, TX; and Cimarron and Rogers Mills Counties, OK, Comment Period Ends: 12/28/2011, Contact: Champe Green 505-346-3900.

EIS No. 20110331, Final EIS, NPS, MI, Isle Royale National Park Wilderness and Backcountry Management Plan, Implementation, MI, Review Period Ends: 10/31/2011, Contact: Phyllis Green 906-482-0986.

Dated: September 27, 2011.
James D. Gavin,
Environmental Protection Specialist, NEPA Compliance Division, Office of Federal Activities.

[FR Doc. 2011-25297 Filed 9-29-11; 8:45 am]

BILLING CODE 6560-50-P